DEPARTMENT OF DEFENSE

Department of the Air Force

[Docket ID USAF-2008-0059]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The proposed action will be effective on January 29, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on December 17, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated February 8, 1996, (February 20, 1996, 61 FR 6427).

Dated: December 18, 2008.
Morgan E. Frazier,
Alternate OSD Federal Register Liaison Officer, Department of Defense.

F036 AFMC G

System name:

Training Scheduling System Records.

System location:

Department of the Air Force, Information Technology Directorate, 6090 Gum Lane, Building 1211, Hill Air Force Base, UT 84056-5996.

Air Force Materiel Command (AFMC) subordinate units. The official mailing addresses are published as an appendix to the Air Force compilation of system of records notices.

Department of the Air Force, Hill Center Training Scheduling, Center Training Office, 6016 Cedar Lane, Building 1279, Hill Air Force Base, Utah 84056-5812.

Department of the Air Force, TSS/ETMS, Customer Support & Courseware Development Office, 3001 Staff Drive, Post 2AG 71A, Tinker AFB, OK 73145-33036.

Department of the Air Force, Robins Center Training Scheduling, Wing Maintenance Training Office, 420 Richard Ray Boulevard, Suite 100, Robins Air Force Base, GA 31098-1640.

Department of the Air Force, Training Scheduling System, 4375 Childlaw Road, Building 262, Wright Patterson Air Force Base, Ohio 45433-5000.

Defense Information Systems Agency, 8705 Industrial Boulevard Building 3900,Tinker Air Force Base, OK 73145-3336.

Department of the Air Force, 878 Communications Squadron, 205 Perry Street, Building 228, Robins Air Force Base, GA 31098-1607.

Categories of individuals covered by the system:

Air Force Materiel Command civilian and contractor employees employed at or attached to Hill Air Force Base, Tinker Air Force Base, and Warner Robins Air Force Base.

Categories of records in the system:

Individual's name, Social Security Number (SSN), scheduled training, completed training, personal certification, and personnel assignment information. The training includes, but is not limited to, maintenance, safety, production support, and technical courses.

Authority for maintenance of the system:

10 U.S.C. 8013, Secretary of the Air Force; AFI 21-101 AFMC Supplement 1, Aircraft and Equipment Maintenance Management; AFMCI 21-108, Maintenance Training and Production Acceptance Certification Programs and E.O. 9397 (SSN).

Purpose:

Information collected is used for scheduling training, maintaining work assignments according to employee certifications, and matching employees with the correct training records.

Routine Uses of records maintained in the system including categories of users and the purpose of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

Polices and Practices for Storing, Retrieving, Accessing, Retaining, and Disposing of Records in the System:

Storage:

Electronic storage media.

Retrievability:

Individual's name and/or Social Security Number (SSN).

Safeguards:

Records are accessed for official use only by person(s) who are properly screened and cleared for need-to-know. Records are protected by standard Air Force access authentication procedures and by network system security software. Training Scheduling System uses approved Air Force Public Key Infrastructure (PKI) certificates and Common Access Card (CAC) log-on/authentication will be implemented.

Retention and Disposal:

Records are retained indefinitely and destroyed when superseded, obsolete, or no longer needed. Records are destroyed by electronic means by computer systems software.

System Manager and Address:

Department of the Air Force, Training Scheduling System Program Manager, Information Technology Directorate, 6090 Gum Lane, Building 1211, Hill Air Force Base, Utah, 84056-5996.

Notification Procedure:

Individuals seeking to determine whether information about themselves is contained in this system should address written inquiries to:

Department of the Air Force, Training Scheduling System Program Manager, Information Technology Directorate, 6090 Gum Lane, Building 1211, Hill Air Force Base, Utah 84056-5996.

Department of the Air Force, Hill Center Training Scheduling System Manager, Center Training Office, 6016 Cedar Lane, Building 1279, Hill Air Force Base, Utah 84056-5812.

Department of the Air Force, TSS/ETMS Systems Manager, Customer Support & Courseware Development Office, 3001 Staff Drive, Post 2AG 71A, Tinker AFB, OK 73145-33036.

Department of the Air Force, Robins Center Training Scheduling System Manager, Wing Maintenance Training Office, 420 Richard Ray Boulevard, Suite 100, Robins Air Force Base, GA 31098-1640.

Department of the Air Force, Training Scheduling System Functional Manager, Directorate of Logistics, 4375 Childlaw Road, Building 262, Wright Patterson Air Force Base, Ohio 45433-5000.

Requests should contain individual's Social Security Number (SSN), date of birth, current address, dates of employment, supervisor's name, and work center.

Record access procedures:

Individuals seeking access to information about themselves contained in this system of records should address written inquiries to an address below:

Department of the Air Force, Training Scheduling System Program Manager, Information Technology Directorate, 6090 Gum Lane, Building 1211, Hill Air Force Base, Utah 84056-5996.

Department of the Air Force, Hill Center Training Scheduling System Manager, Center Training Office, 6016 Cedar Lane, Building 1279, Hill Air Force Base, Utah 84056-5812.

Department of the Air Force, TSS/ETMS Systems Manager, Customer Support & Courseware Development Office, 3001 Staff Drive, Post 2AG 71A, Tinker AFB, OK 73145-33036.

Department of the Air Force, Robins Center Training Scheduling System Manager, Wing Maintenance Training Office, 420 Richard Ray Boulevard, Suite 100, Robins Air Force Base, GA 31098-1640.

Department of the Air Force, Training Scheduling System Functional Manager, Directorate of Logistics, 4375 Childlaw Road, Building 262, Wright Patterson Air Force Base, Ohio 45433-5000.

Requests should contain individual's Social Security Number (SSN), date of birth, current address, dates of employment, supervisor's name, and work center.

Contesting Records Procedures:

The Air Force rules for accessing records, and for contesting contents and appealing initial agency determinations are published in Air Force Instruction 33-332; 32 CFR part 806b; or may be obtained from the system manager.

Record Source Categories:

Education and training, personnel, and manpower information is obtained from approved automated system interfaces. Information will also be obtained from supervisors, unit training monitors, education and training personnel, and subject of the record.

Exemptions Claimed for the System:

None.

[FR Doc. E8-30887 Filed 12-29-08; 8:45 am]

BILLING CODE 5001-06-P